DEPARTMENT OF ENERGY

Federal Energy Regulatory Commission

[Docket No. RP97-81-009]

Kinder Morgan Interstate Gas Transmission LLC; Notice of Negotiated Rate

July 10, 2001.

Take notice that on June 29, 2001, Kinder Morgan Interstate Gas Transmission LLC (KMIGT) tendered for filing as part of its FERC Gas Tariff, Fourth Revised Volume No. 1-A, Third Revised Sheet No. 4G, to be effective July 1, 2001.

KMIGT states that the above-referenced tariff sheet reflects a negotiated rate contract effective July 1, 2001 and removes a negotiated rate contract which was in effect for the month of June, 2001. This tariff sheet is being filed pursuant to Fourth Revised Volume No. 1-B, Section 36 of KMIGT's FERC Gas Tariff, and the procedures prescribed by the Commission in its December 31, 1996 “Order Accepting Tariff Filing Subject to Conditions”, in Docket No. RP97-81 (77 FERC ¶ 61,350) and the Commission's Letter Orders dated March 28, 1997 and November 30, 2000 in Docket Nos. RP97-81-001, and RP01-70-000, respectively.

KMIGT states that a copy of this filing has been served upon all parties to this proceeding, KMIGT's customers and affected state commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 01-17671 Filed 7-13-01; 8:45 am]

BILLING CODE 6717-01-P